DEPARTMENT OF TRANSPORTATION

Federal Motor Carrier Safety Administration

Qualification of Drivers; Exemption Applications; Vision

AGENCY: Federal Motor Carrier Safety Administration (FMCSA), DOT.

ACTION: Notice of denials.

SUMMARY: The FMCSA announces that 77 individuals were denied exemptions from the Federal vision standards applicable to interstate truck drivers and the reasons for the denials. The FMCSA has statutory authority to exempt individuals from vision standards if the exemptions granted will not compromise safety. The agency has concluded that granting these exemptions does not provide a level of safety that will equal or exceed the level of safety maintained without the exemptions for these commercial drivers.

FOR FURTHER INFORMATION CONTACT: Sandra Zywokarte, Office of Bus and Truck Standards and Operations, (MC-PSD), 202-366-2987, Department of Transportation, FMCSA, 400 Seventh Street, SW., Washington, DC 20590-0001. Office hours are from 7:45 a.m. to 4:15 p.m., e.t., Monday through Friday, except Federal holidays.

SUPPLEMENTARY INFORMATION:

Background

Under 49 U.S.C. 31315 and 31136(e), FMCSA may grant an exemption from the Federal vision standard for a renewable 2-year period if it finds such an exemption would likely achieve a level of safety that is equivalent to, or greater than, the level that would be achieved absent such an exemption. (49 CFR 391.41(b)(10))

Accordingly, FMCSA evaluated 77 individual exemption requests on their merits and made a determination that these applicants do not satisfy the criteria established to demonstrate that granting an exemption is likely to achieve an equal or greater level of safety that exists without the exemption. Each applicant has, prior to this notice, received a letter of final disposition on his/her individual exemption request. Those decision letters fully outlined the basis for the denial and constitute final agency action. The list published today summarizes the agency's recent denials as required under 49 U.S.C. 31315(b)(4) by periodically publishing names and reason for denials.

The following 44 applicants lacked sufficient recent driving experience over three years:

Atkins, Jr., Eugene

Baysinger, Joseph A.

Blackwell, Deryl C.

Bradford, Michael R.

Brown, Richard

Brown, Thomas D.

Cross, Richard

Diederich, Thomas E.

Doney, John M.

DuBois, Paul E.

Gellerman, Mark W.

Gillis, Reginal

Goucher, Newell D.

Johnson, Kerry

Knaack, John S.

Lydick, Eugene R.

Maples, Frank

McCormick, James M.

McKinney II, Roy J.

Mills, Fred

Murtha, Barry I.

Negulescu, Daniel S.

Palazzolo, Vincent

Parker, Rodney R.

Peck, Gregory A.

Peters, Randy W.

Pryor, Scott A.

Rabalais, Jason A.

Rissler, Wayne R.

Schwarzrock, Steve M.

Silbernagel, Warren T.

Somers, Michael E.

Stambaugh, Gary W.

Stoffel, James E.

Tyler, Mark D.

Walker, Ronald L.

Wallencheck, Ronald J.

Ware, Roy J.

Wells, Bryson

Wilcox, William R.

Wilkinson, Sonya D.

Williams, Michael E.

Wos, Aloysius R.

Yoxall, Slade W.

The following 10 applicants do not have 3 years of experience driving a commercial motor vehicle (CMV) on public highways with the vision deficiency:

Clark, Edgar E.

Dinguss, Kenneth A.

Emerson, Craig M.

Lomison, James E.

Morgan, Tim R.

Roberson, Terry L.

Turner, Emerson J.

Vega, Rudolfo A.

Wojtalik, William

Wollam, Robert J.

The following 5 applicants do not have 3 years recent experience driving a CMV with the vision deficiency:

Carter, Jr., Jerry D.

Hilby, Glen G.

Johnson, Rufus R.

McCabe, William S.

Morgan, Paul

One applicant, Mr. Gayle G. Olson, does not have sufficient peripheral vision in the better eye to qualify for an exemption.

Four applicants' licenses were suspended during the 3-year period because of a moving violation. Applicants do not qualify for an exemption with a suspension during the 3-year period:

Gooden, Sr., Ernest H.

Hyatt, William D.

Keller, Clarence R.

Rodriquez, Erik J.

The following 7 applicants contributed to accidents in which applicants were operating a CMV. Applicants contributing to an accident during the 3-year period are disqualified for an exemption.

Biller, Michael R.

Cameron, George C.

McAlheney, Leland K.

Mero, Garth R.

Paschal, Eddie L.

Sandlin, Dwayne L.

Small, Edward F.

Four applicants do not hold licenses that allow operation of vehicles over 10,000 pounds for all or part of the 3-year period:

Compton, Jeffrey C.

Ives, Bobby J.

Jones, Elmer C.

McKneely, Ellis T.

Finally, 2 applicants, Mr. Juan Aldama and Mr. Zibbie Lee Dawsey were denied vision exemptions for multiple reasons.

Issued on: October 28, 2003.
Pamela M. Pelcovits,
Acting Associate Administrator for Policy and Program Development.

[FR Doc. 03-27608 Filed 11-3-03; 8:45 am]

BILLING CODE 4910-EX-P